NATIONAL SCIENCE FOUNDATION

Advisory Committee for Biological Sciences; Notice of Meeting

In accordance with the Federal Advisory Committee Act (Pub. L. 92-463, as amended), the National Science Foundation (NSF) announces the following meeting:

Name and Committee Code: Advisory Committee for Biological Sciences (#1110).

Date and Time: April 2, 2018; 8:30 a.m.-5:00 p.m., April 3, 2018; 8:30 a.m.-2:00 p.m.

Place: National Science Foundation, 2415 Eisenhower Avenue, Alexandria, VA 22314, Room 2030.

Please contact Rachel Evans at rlevans@nsf.gov to obtain a visitor badge. All visitors to the NSF will be required to show photo ID to obtain a badge.

Type of Meeting: Open.

Contact Person: Brent Miller, National Science Foundation, 2415 Eisenhower Avenue, Room E 2030, Alexandria, VA 22314; Tel No.: (703) 292-8400.

Purpose of Meeting: The Advisory Committee for the Directorate for Biological Sciences (BIO) provides advice, recommendations, and oversight concerning major program emphases, directions, and goals for the research-related activities of the divisions that make up BIO.

Agenda: Agenda items will include Directorate updates, review of the AC's function and responsibilities, discussion of potential future AC activities, discussion of partnership opportunities, and other matters relevant to the Directorate for Biological Sciences.

Dated: March 5, 2018.
Crystal Robinson,
Committee Management Officer.

[FR Doc. 2018-04636 Filed 3-7-18; 8:45 am]

BILLING CODE 7555-01-P